OVERSEAS PRIVATE INVESTMENT CORPORATION

Sunshine Act Meeting; Public Hearing

January 22, 2004.

OPIC's Sunshine Act notice of its public hearing was published in the Federal Register (Volume 69, Number 4, Page 948) on January 7, 2004. No requests were received to provide testimony or submit written statements for the record; therefore, OPIC's public hearing in conjunction with OPIC's January 29, 2004 Board of Directors meeting scheduled for 2 p.m. on January 22, 2004 has been canceled.

FOR FURTHER INFORMATION CONTACT: Information on the hearing cancellation may be obtained from Connie M. Downs at (202) 336-8438, via facsimile at (202) 218-0136, or via e-mail at cdown@opic.gov.

Dated: January 20, 2004.
Connie M. Downs,
OPIC Corporate Secretary.

[FR Doc. 04-1501 Filed 1-20-04; 3:40 pm]

BILLING CODE 3210-01-M